DEPARTMENT OF HOMELAND SECURITY

U.S. Citizenship and Immigration Services

[CIS No. 2510-11; DHS Docket No. USCIS 2007-0028]

RIN 1615-ZB06

Extension of the Designation of El Salvador for Temporary Protected Status and Automatic Extension of Employment Authorization Documentation for Salvadoran TPS Beneficiaries

AGENCY: U.S. Citizenship and Immigration Services, Department of Homeland Security.

ACTION: Notice.

SUMMARY: This Notice announces that the Secretary of Homeland Security (Secretary) has extended the designation of El Salvador for temporary protected status (TPS) for 18 months from its current expiration date of March 9, 2012 through September 9, 2013. The Secretary has determined that an extension is warranted because the conditions in El Salvador that prompted the TPS designation continue to be met. There continues to be a substantial, but temporary, disruption of living conditions in El Salvador resulting from a series of earthquakes in 2001, and El Salvador remains unable, temporarily, to handle adequately the return of its nationals.

This Notice also sets forth procedures necessary for nationals of El Salvador (or aliens having no nationality who last habitually resided in El Salvador) with TPS to re-register and to apply for an extension of their Employment Authorization Documents (EADs) (Forms I-766) with U.S. Citizenship and Immigration Services (USCIS). Re-registration is limited to persons who previously registered for TPS under the designation of El Salvador and whose applications have been granted or remain pending. Certain nationals of El Salvador (or aliens having no nationality who last habitually resided in El Salvador) who have not previously applied for TPS may be eligible to apply under the late initial registration provisions.

USCIS will issue new EADs with a September 9, 2013 expiration date to eligible Salvadoran TPS beneficiaries who timely re-register and apply for EADs under this extension. Given the timeframes involved with processing TPS re-registration applications, DHS recognizes that all re-registrants may not receive new EADs until after their current EADs expire on March 9, 2012. Accordingly, this Notice automatically extends the validity of EADs issued under the TPS designation of El Salvador for 6 months, through September 9, 2012, and explains how TPS beneficiaries and their employers may determine which EADs are automatically extended and their impact on Form I-9 and E-Verify processes.

DATES: The 18-month extension of the TPS designation of El Salvador is effective March 10, 2012 and will remain in effect through September 9, 2013. The 60-day re-registration period begins January 9, 2012 and will remain in effect until March 9, 2012.

FOR FURTHER INFORMATION CONTACT: • For further information on TPS, including guidance on the application process and additional information on eligibility, please visit the TPS Web page at http://www.uscis.gov/tps. You can find specific information about this extension and about TPS for El Salvador by selecting “TPS Designated Country—El Salvador” from the menu on the left of the TPS Web page. From the El Salvador page, you can select the El Salvador TPS Questions & Answers Section from the menu on the right for further information.

• You can also contact the TPS Operations Program Manager at Status and Family Branch, Service Center Operations Directorate, U.S. Citizenship and Immigration Services, Department of Homeland Security, 20 Massachusetts Avenue NW. Washington, DC 20529-2060; or by phone at (202) 272-1533 (this is not a toll-free number). Note: The phone number provided here is solely for questions regarding this TPS notice. It is not for individual case status inquiries.

• Applicants seeking information about the status of their individual cases can check Case Status Online available at the USCIS Web site at http://www.uscis.gov, or call the USCIS National Customer Service Center at 1-(800) 375-5283 (TTY 1-(800) 767-1833).

• Further information will also be available at local USCIS offices upon publication of this Notice.

SUPPLEMENTARY INFORMATION:

Abbreviations and Terms Used in This Document

Act—Immigration and Nationality Act

DHS—Department of Homeland Security

DOS—Department of State

EAD—Employment Authorization Document

Government—U.S. Government

IDB—Inter-American Development Bank

OSC—U.S. Department of Justice, Office of Special Counsel for Immigration-Related Unfair Employment Practices

Secretary—Secretary of Homeland Security

TPS—Temporary Protected Status

USAID—U.S. Agency for International Development

USCIS—U.S. Citizenship and Immigration Services

What is temporary protected status (TPS)?

• TPS is an immigration status granted to eligible nationals of a country designated for TPS under the Act (or to persons without nationality who last habitually resided in the designated country).

• During the TPS designation period, TPS beneficiaries are eligible to remain in the United States and may obtain work authorization, so long as they continue to meet the requirements of TPS status.

• The granting of TPS does not lead to permanent resident status.

• When the Secretary of Homeland Security (Secretary) terminates a country's TPS designation, beneficiaries return to the same immigration status they maintained before TPS (unless that status has since expired or been terminated) or to any other lawfully obtained immigration status they received while registered for TPS.

When was El Salvador designated for TPS?

On March 9, 2001, the Attorney General designated El Salvador for TPS based on an environmental disaster within that country, specifically a series of earthquakes that occurred in 2001. See 66 FR 14214 and section 244(a)(b)(1)(B) of the Immigration and Nationality Act (Act), 8 U.S.C. 1254a(b)(1)(B). The last extension of TPS for El Salvador was announced on July 9, 2010, based on the Secretary's determination that the conditions warranting the designation continued to be met. This announcement is the eighth extension of TPS for El Salvador.

What authority does the Secretary of Homeland Security have to extend the designation of El Salvador for TPS?

Section 244(b)(1) of the Act, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the Act, 8 U.S.C. 1254a(a)(1)(A).

¹ As of March 1, 2003, in accordance with section 1517 of title XV of the Homeland Security Act of 2002 (HSA), Public Law 107-296, 116 Stat. 2135, any reference to the Attorney General in a provision of the Immigration and Nationality Act describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the Act, 8 U.S.C. 1254a(b)(3)(A). If the Secretary determines that a foreign state continues to meet the conditions for TPS designation, the designation is extended for an additional 6 months (or in the Secretary's discretion for 12 or 18 months). See section 244(b)(3)(C) of the Act, 8 U.S.C. 1254a(b)(3)(C). If the Secretary determines that the foreign state no longer meets the conditions for TPS designation, the Secretary must terminate the designation. See section 244(b)(3)(B) of the Act, 8 U.S.C. 1254a(b)(3)(B).

Why is the Secretary extending the TPS designation for El Salvador through September 9, 2013?

Over the past year, the Department of Homeland Security (DHS) and the Department of State (DOS) have continued to review conditions in El Salvador. Based on this review and after consulting with DOS, the Secretary has determined that an 18-month extension is warranted because there continues to be a substantial, but temporary, disruption of living conditions in El Salvador resulting from the series of earthquakes that struck the country in 2001, and El Salvador remains unable, temporarily, to adequately handle the return of its nationals.

The 2001 earthquakes resulted in the loss of over 1000 lives, displacement of thousands more, the extensive destruction of physical infrastructure, and severe damage to the country's economic system. See 66 FR 14214 (Mar. 9, 2001) (describing the devastation caused by earthquakes). El Salvador's recovery from the earthquakes is still incomplete, and significant damage remains to the country's infrastructure and public services.

In response to the devastation caused by the 2001 earthquakes, the U.S. Agency for International Development (USAID), the Inter-American Development Bank (IDB), the World Bank, and the European Union initiated reconstruction efforts in areas throughout El Salvador. Recovery has been slow and encumbered by Hurricanes Adrian and Stan in 2005, Hurricane Felix in 2007, Hurricane Ida in 2009, and most recently Tropical Storm Agatha in 2010.

While all major roads damaged by the earthquakes appear to have been reconstructed and are functioning, El Salvador's road networks remain vulnerable to adverse climatic conditions. Of the approximately 276,000 homes destroyed, only about half have been reconstructed or repaired through assistance from USAID, the Salvadoran government and international donors, including an estimated 12,512 houses built or reconstructed through European Union and Habitat-for-Humanity efforts. The IDB has also initiated reconstruction efforts in areas throughout the country, but it is believed that the program is still far from completion.

El Salvador's Ministry of Education reported that while over 2,300 schools had been rebuilt as of July 2004, the remaining 270 schools damaged by the earthquakes will require $21.7 million in financing to complete construction. According to the USAID Reconstruction Office, that funding was not available.

In the immediate aftermath of the earthquake, seven hospitals and 113 of 361 health facilities were severely damaged; these numbers represented 55 percent of the country's capacity to deliver health services. In June 2011, 10 years after the earthquake, the last damaged hospital was reopened.

The National Water Institution estimated that 40-50 percent of the population is without access to potable water on account of a continued lack of electricity and damage to the water system resulting from the earthquakes. Despite international funding for reconstruction of water systems, there was no accurate record at the national level that stated how many water and sanitation systems had been repaired since the destruction caused by the 2001 earthquakes. Reports further indicate that water treatment services in urban areas have improved since the 2001 earthquakes, and around four fifths of the urban population has access to clean water. However, there are reports that only about 21 percent of rural households had continuous water services.

El Salvador is still rebuilding from the devastating 2001 earthquakes. However, rebuilding efforts have been further complicated by more recent natural disasters and by sluggish economic growth. Due to these environmental factors, United Nations Development Programme recently classified El Salvador among the most vulnerable countries in the world. Given the ongoing challenges faced by the country, El Salvador remains temporarily unable to handle adequately the return of its nationals from the United States.

While the U.S. government has significantly invested in the recovery from the damage caused by the 2001 earthquakes and in the overall development of El Salvador, the Salvadoran economy remains fragile and suffers from infrastructure shortcomings. An influx of TPS returnees would further strain already overburdened health and education sectors in El Salvador's rural communities which have yet to fully recover from the 2001 earthquakes. Due to these conditions, there continues to be a substantial, but temporary, disruption in living conditions in El Salvador, and the country continues to be unable, temporarily, to handle adequately, the return of its nationals.

Based upon this review and after consultation with appropriate Government agencies, the Secretary finds that:

• The conditions that prompted the March 9, 2001, designation of El Salvador for TPS continue to be met. See section 244(b)(3)(A) of the Act, 8 U.S.C. 1254a(b)(3)(A).

• There continues to be a substantial, but temporary, disruption in living conditions in El Salvador as a result of an environmental disaster. See section 244(b)(1)(B) of the Act, 8 U.S.C. 1254a(b)(1)(B).

• El Salvador continues to be unable, temporarily, to handle adequately the return of its nationals (or aliens having no nationality who last habitually resided in El Salvador). See section 244(b)(1)(B) of the Act, 8 U.S.C. 1254a(b)(1)(B).

• The designation of El Salvador for TPS should be extended for an additional 18-month period. See section 244(b)(3)(C) of the Act, 8 U.S.C. 1254a(b)(3)(C).

• There are approximately 212,000 nationals of El Salvador (or aliens having no nationality who last habitually resided in El Salvador) who may be eligible to re-register for TPS under this extended designation.

Notice of Extension of the TPS Designation of El Salvador

By the authority vested in me as Secretary of Homeland Security under section 244 of the Act, 8 U.S.C. 1254a, I have determined after consultation with the appropriate Government agencies, that the conditions that prompted the designation of El Salvador for temporary protected status (TPS) on March 9, 2001 continue to be met. See section 244(b)(3)(A) of the Act, 8 U.S.C. 1254a(b)(3)(A). On the basis of this determination, I am extending the TPS designation of El Salvador for 18 months from its current expiration on March 9, 2012 through September 9, 2013.

Janet Napolitano,
Secretary.

Required Application Forms and Application Fees To Register or Re-register for TPS

To register or re-register for TPS for El Salvador, an applicant must submit:

1. Application for Temporary Protected Status, Form I-821.

• You only need to pay the Form I-821 application fee if you are filing an application for late initial registration. See 8 CFR sec. 244.2(f)(2) and information on late initial filing on the USCIS TPS Web page at www.uscis.gov/tps.

• You do not need to pay the Form I-821 fee for a re-registration; and

2. Application for Employment Authorization, Form I-765.

• If you are applying for re-registration, you must pay the Form I-765 application fee only if you want an Employment Authorization Document (EAD) (Form I-766).

• If you are applying for late initial registration and want an EAD, you must pay the Form I-765 fee only if you are age 14 through 65. No EAD fee is required if you are under the age of 14 or over the age of 65 and applying for late initial registration.

• You do not pay the Form I-765 fee if you are not requesting an EAD.

You must submit both completed application forms together. If you are unable to pay, you may apply for application and/or biometrics fee waivers by completing a Request for Fee Waiver (Form I-912) or submitting a personal letter requesting a fee waiver, and providing satisfactory supporting documentation. For more information on the application forms and fees for TPS, please visit the USCIS TPS Web page at http://www.uscis.gov/tps and click on Temporary Protected Status for El Salvador. Fees for Form I-821, Form I-765, and biometric services are also described in 8 CFR 103.7(b).

Biometric Services Fee

Biometrics (such as fingerprints) are required for all applicants 14 years of age or older. Those applicants must submit a biometric services fee. As previously stated, if you are unable to pay, you may apply for a biometrics fee waiver by completing a Form I-912, or a personal letter requesting a fee waiver, and providing satisfactory supporting documentation. For more information on the biometric services fee, please visit the USCIS Web site at http://www.uscis.gov. If necessary, you may be required to visit an Application Support Center to have your biometrics captured.

Refiling After Receiving a Denial of a Fee Waiver Request

USCIS urges all re-registering applicants to file as soon as possible within the 60-day re-registration period so that USCIS can promptly process the applications and issue EADs. Filing early will also allow those applicants who may receive denials of their fee waiver requests to have time to refile their applications before the re-registration deadline. If, however, an applicant receives a denial of his or her fee waiver request and is unable to refile by the re-registration deadline, the applicant may still refile his or her applications. This situation will fall under good cause for late re-registration. However, applicants are urged to refile within 45 days of the date on their USCIS fee waiver denial notice, if at all possible. See section 244(c)(3)(A)(iii) of the Act; 8 U.S.C. 1254a(c)(3)(A)(iii); 8 CFR 244.17(c). For more information on good cause for late re-registration, please look at the Questions & Answers for El Salvador TPS found on the USCIS TPS Web page for El Salvador.

Mailing Information

Mail your application for TPS to the proper address in Table 1:

Table 1—Mailing Addresses
If ... | Mail to ...
You are applying for re-registration and you live in the following states/territories: Connecticut, Delaware, Florida, Georgia, Illinois, Indiana, Kentucky, Maine, Maryland, Massachusetts, Michigan, New Hampshire, New Jersey, North Carolina, Ohio, Pennsylvania, Rhode Island, South Carolina, Vermont, Virginia, Washington DC, West Virginia | U.S. Postal Service: USCIS Attn: TPS El Salvador P.O. Box 8635 Chicago, IL 60680-8635. Non-U.S. Postal Delivery Service: USCIS Attn: TPS El Salvador 131 S. Dearborn—3rd Floor Chicago, IL 60603-5517.
You are applying for re-registration and you live in the following states/territories: Alabama, Alaska, American Samoa, Arkansas, Colorado, Guam, Hawaii, Idaho, Iowa, Kansas, Louisiana; Minnesota, Mississippi, Missouri, Montana, Nebraska, New Mexico, New York, North Dakota, Northern Mariana Islands, Oklahoma, Puerto Rico, South Dakota, Tennessee, Texas, Utah, Virgin Islands, Wisconsin, Wyoming | U.S. Postal Service: USCIS Attn: TPS El Salvador P.O. Box 660864 Dallas, TX 75266. Non-U.S. Postal Delivery Service: USCIS 2501 S. State Highway, 121 Business Suite 400 Lewisville, TX 75067.
You are applying for re-registration and you live in the following states/territories: Arizona, California, Nevada, Oregon, Washington | U.S. Postal Service: USCIS Attn: TPS El Salvador P.O. Box 21800 Phoenix, AZ 85036.
| Non-U.S. Postal Delivery Service: USCIS 1820 E. Skyharbor, Circle S, Suite 100 Phoenix, AZ 85034.
You are applying for the first time as a late initial registrant through US Postal Service | U.S. Postal Service: USCIS Attn: TPS El Salvador P.O. Box 8670 Chicago, IL 60680-8670.
| Non-U.S. Postal Delivery Service: USCIS Attn: TPS El Salvador 131 S. Dearborn—3rd Floor Chicago, IL 60603-5517.

If you were granted TPS by an Immigration Judge (IJ) or the Board of Immigration Appeals (BIA), and you wish to request an EAD or are re-registering for the first time following a grant by the IJ or BIA, please mail your application to the proper address for TPS re-registration based on the state/territory where you live.

E-Filing

If you are re-registering for TPS during the re-registration period and you do not need to submit any supporting documents or evidence, you are eligible to file your applications electronically. For more information on e-filing, please visit the USCIS E-Filing Reference Guide at the USCIS Web site at http://www.uscis.gov.

Employment Authorization Document (EAD)

May I request an interim EAD at my local USCIS office?

No. USCIS will not issue interim EADs to TPS applicants and re-registrants at local offices.

Am I eligible to receive an automatic 6-month extension of my current EAD from March 9, 2012 through September 9, 2012?

You will receive an automatic 6-month extension of your EAD if you:

• Are a national of El Salvador (or an alien having no nationality who last habitually resided in El Salvador);

• Received an EAD under the last extension of TPS for El Salvador; and

• Have not had TPS withdrawn or denied.

This automatic extension is limited to EADs with an expiration date of March 9, 2012. These EADs must also bear the notation “A-12” or “C-19” on the face of the card under “Category.”

When hired, what documentation may I show to my employer as proof of employment authorization and identity when completing Employment Eligibility Verification, Form I-9?

You can find a list of acceptable document choices on page 5 of the Employment Eligibility Verification, Form I-9. Employers are required to verify the identity and employment authorization of all new employees by using Form I-9. Within three days of hire, an employee must present proof of identity and employment authorization to his or her employer.

You may present any document from List A (reflecting both your identity and employment authorization), or one document from List B (reflecting identity) together with one document from List C (reflecting employment authorization). An EAD is an acceptable document under “List A.”

If you received a 6-month automatic extension of your EAD by virtue of this Federal Register notice, you may choose to present your automatically extended EAD, as described above, to your employer as proof of identity and employment authorization for Form I-9 through September 9, 2012 (see the subsection below titled “How do I and my employer complete Form I-9 (i.e., verification) using an automatically extended EAD for a new job?” for further information). To minimize confusion over this extension at the time of hire, you may also show your employer a copy of this Federal Register notice confirming the automatic extension of employment authorization through September 9, 2012. As an alternative to presenting your automatically extended EAD, you may choose to present any other acceptable document from List A, or List B plus List C.

What documentation may I show my employer if I am already employed but my current TPS-related EAD is set to expire?

You must present any document from List A or any document from List C on Form I-9 to reverify employment authorization. Employers are required to reverify on Form I-9 the employment authorization of current employees upon the expiration of a TPS-related EAD.

If you received a 6-month automatic extension of your EAD by virtue of this Federal Register notice, your employer does not need to reverify until after September 9, 2012. However, you and your employer do need to make corrections to the employment authorization expiration dates in section 1 and section 2 of the Form I-9 (see the subsection below titled “What corrections should I and my employer at my current job make to Form I-9 if my EAD has been automatically extended?” for further information). In addition, you may also show this Federal Register notice to your employer to avoid confusion about whether or not your expired TPS-related document is acceptable. After September 9, 2012, when the automatic extension expires, your employer must reverify your employment authorization. You may show any document from List A or List C on Form I-9 to satisfy this reverification requirement.

What happens after September 9, 2012 for purposes of employment authorization?

After September 9, 2012, employers may not accept the EADs that were automatically extended by this Federal Register notice. However, USCIS will issue new EADs to TPS re-registrants. These EADs will have an expiration date of September 9, 2013 and can be presented to your employer as proof of employment authorization and identity. The EAD will bear the notation “A-12” or “C-19” on the face of the card under “Category.” Alternatively, you may choose to present any other legally acceptable document or combination of documents listed on the Form I-9 to prove identity and employment authorization.

How do I and my employer complete Form I-9 (i.e., verification) using an automatically extended EAD for a new job?

When using an automatically extended EAD to fill out Form I-9 for a new job prior to September 9, 2012, you and your employer should do the following:

(1) For Section 1, you should:

a. Check “An alien authorized to work”;

b. Write your alien number (A-number) in the first space (your EAD or other document from DHS will have your A-number printed on it); and

c. Write the automatic extension date in the second space.

(2) For Section 2, employers should:

a. Record the document title;

b. Record the document number; and

c. Record the automatically extended EAD expiration date.

After September 9, 2012, employers must reverify the employee's employment authorization in Section 3 of Form I-9.

What corrections should I and my employer at my current job make to Form I-9 if my EAD has been automatically extended?

If you are an existing employee who presented a TPS EAD that was valid when you first started your job, but that EAD has now been automatically extended, you and your employer should correct your previously completed Form I-9 as follows:

(1) For Section 1, you should:

a. Draw a line through the expiration date in the second space;

b. Write “September 9, 2012” above the previous date;

c. Write “TPS Ext.” in the margin of Section 1; and

d. Initial and date the correction in the margin of Section 1.

(2) For Section 2, employers should:

a. Draw a line through the expiration date written in Section 2;

b. Write September 9, 2012, above the previous date;

c. Write “TPS Ext.” in the margin of Section 2; and

d. Initial and date the correction in the margin of Section 2.

After September 9, 2012, when the automatic extension of EADs expires, employers must reverify the employee's employment authorization in Section 3.

If I am an employer enrolled in E-Verify, what do I do when I receive a “Work Authorization Documents Expiring” alert for an automatically extended EAD?

If you are an employer who participates in E-Verify, you will receive a “Work Authorization Documents Expiring” case alert when a TPS beneficiary's EAD is about to expire. Usually, this message is an alert to complete Section 3 of Form I-9 to reverify an employee's employment authorization. For existing employees with TPS EADs that have been automatically extended, employers should disregard the E-Verify case alert and follow the instructions above explaining how to correct Form I-9. After September 9, 2012, employment authorization needs to be reverified in Section 3. You should never use E-Verify for reverification.

Can my employer require that I produce any other documentation to prove my status, such as proof of my Salvadoran citizenship?

No. When completing the Form I-9, employers must accept any documentation that appears on the lists of acceptable documentation, and that reasonably appears to be genuine and that relates to you. Employers may not request documentation that does not appear on the Form I-9. Therefore, employers may not request proof of Salvadoran citizenship when completing Form I-9. If presented with EADs that have been automatically extended pursuant to this Federal Register notice or EADs that are unexpired on their face, employers should accept such EADs as valid “List A” documents so long as the EADs reasonably appear to be genuine and to relate to the employee. See below for important information about your rights if your employer rejects lawful documentation, requires additional documentation, or otherwise discriminates against you because or your citizenship or immigration status, or national origin.

Note to All Employers

Employers are reminded that the laws requiring employment eligibility verification and prohibiting unfair immigration-related employment practices remain in full force. This notice does not supersede or in any way limit applicable employment verification rules and policy guidance, including those rules setting forth reverification requirements. For questions, employers may call the USCIS Customer Assistance Office at 1-(800) 357-2099. The USCIS Customer Assistance Office accepts calls in English and Spanish only. Employers may also call the Department of Justice (DOJ) Office of Special Counsel for Immigration-Related Unfair Employment Practices (OSC) Employer Hotline at 1-(800) 255-8155.

Note to Employees

Employees or applicants may call the DOJ OSC Worker Information Hotline at 1-(800) 255-7688 for information regarding employment discrimination based upon citizenship or immigration status, and national origin, unfair documentary practices related to the Form I-9, and discriminatory practices related E-Verify. Employers must accept any document or combination of documents acceptable for Form I-9 completion if the documentation reasonably appears to be genuine and to relate to the employee. Employers may not require extra or additional documentation beyond what is required for Form I-9 completion. Further, employees who receive an initial mismatch via E-Verify must be given an opportunity to challenge the mismatch, and employers are prohibited from taking adverse action against such employees based on the initial mismatch unless and until E-Verify returns a final non-confirmation. The Hotline accepts calls in multiple languages. Additional information is available on the OSC Web site at http://www.justice.gov/crt/osc/.

Note Regarding Federal, State and Local Government Agencies (Such as Departments of Motor Vehicles)

State and local government agencies are permitted to create their own guidelines when granting certain benefits. Each state may have different laws, requirements, and determinations about what documents you need to provide to prove eligibility for certain benefits. If you are applying for a state or local government benefit, you may need to provide the state or local government agency with documents that show you are a TPS beneficiary and/or show you are authorized to work based on TPS. Examples are:

(1) Your expired EAD that has been automatically extended, or your EAD that has a valid expiration date;

(2) A copy of this Federal Register notice if your EAD is automatically extended under this notice;

(3) A copy of your Application for Temporary Protected Status, Form I-821 Receipt Notice (Form I-797) for this re-registration;

(4) A copy of your past or current Form I-821 Approval Notice (Form I-797), if you receive one from USCIS; and

(5) If there is an automatic extension of work authorization, a copy of the fact sheet from the USCIS TPS Web site that provides information on the automatic extension.

Check with the state or local agency regarding which document(s) the agency will accept.

Some benefit-granting agencies use the USCIS Systematic Alien Verification for Entitlements Program (SAVE) to verify the current immigration status of applicants for public benefits. If such an agency has denied your application based solely or in part on a SAVE response following completion of all required SAVE verification steps, the agency must offer you the opportunity to appeal the decision in accordance with the agency's procedures. If the agency has completed all SAVE verification and you do not believe the response is correct, you may make an Info Pass appointment for an in-person interview at a local USCIS office. Detailed information on how to make corrections, make an appointment, or submit a written request can be found at the SAVE Web site at www.uscis.gov/save, then by choosing “How to Correct Your Records” from the menu on the right.

[FR Doc. 2012-143 Filed 1-10-12; 8:45 am]

BILLING CODE 9111-97-P